DEPARTMENT OF HOMELAND SECURITY

Federal Emergency Management Agency

44 CFR Part 67

[Docket No. FEMA-7442]

Proposed Flood Elevation Determinations

AGENCY: Federal Emergency Management Agency (FEMA), Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E. Hazard Identification Section, Emergency Preparedness and Response Directorate, Federal Emergency Management Agency, 500 C Street, SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

State | City/town/county | Source of flooding | Location | #Depth in feet above ground. *Elevation in feet. (NGVD): Existing | #Depth in feet above ground. *Elevation in feet. (NGVD): Modified
Washington | Lewis County | Newaukum River | Confluence with Chehalis River | *182 | *183
|  |  | Confluence of North and South Fork Newaukum River | *267 | *268
|  | Newaukum River Overflow | Approximately 750 feet upstream of Rice Road | None | *185
|  |  | Approximately 2.1 miles upstream of Rice Road | None | *199
#Depth in feet above ground
*Elevation in feet
Maps are available for inspection at Lewis County Public Works Department, 350 North Market Boulevard, Chehalis, Washington 98532.
Send comments to the Honorable Dennis Hadaller, Chairman, Lewis County Board of Commissioners, 351 Northwest North Street, Chehalis, Washington 98532.
Washington | Napavine (City), Lewis County | Newaukum River | Approximately 2,000 feet downstream of Rush Road | None | *224
|  |  | Approximately 100 feet upstream of Kirkland Road | None | *240
#Depth in feet above ground
*Elevation in feet
Maps are available for inspection at 214 Second Avenue Northeast, Napavine, Washington 98565.
Send comments to the Honorable Gary McGuire, Mayor, City of Napavine, P.O. Box 810, Napavine, Washington 98565.
Washington | Chehalis (City), Lewis County | Newaukum River | Approximately 500 feet upstream of Railroad | *182 | *184
|  |  | Approximately 3,650 feet upstream of Railroad | *187 | *185
|  | Newaukum River Overflow | Approximately 1,200 feet downstream of Rice Road | None | *185
|  |  | Approximately 750 feet upstream of Rice Road | None | *185
#Depth in feet above ground
*Elevation in feet
Maps are available for inspection at 1321 South Market Boulevard, Chehalis, Washington 98532.
Send comments to the Honorable Bob Saphr, Mayor, City of Chehalis, P.O. Box 871, Chehalis, Washington 98532.

Flooding source(s) | Location of referenced elevation | Elevation in feet *(NGVD): Effective | Elevation in feet *(NGVD): Modified | Communities affected
Snohomish County and Incorporated Areas
Ebey Slough | Approximately 1.2 miles downstream of Interstate Highway 5 | *9 | *8 | Snohomish County (Uninc. Areas) and City of Marysville.
| At divergence from Snohomish River | *18 | *19
Ebey-Steamboat Slough Connector | At confluence with Steamboat Slough | *9 | *12 | Snohomish County (Uninc. Areas).
| At divergence from Ebey Slough | *9 | *12
Marshland | At Burlington Northern Railroad tracks | *19 | *20 | Snohomish County (Uninc. Areas) and City of Everett.
| At divergence from Snohomish River | *30 | *23
Snohomish River | Approximately 1.2 miles of State Highway 529 | *9 | *8 | Snohomish County (Uninc. Areas), City of Monroe, City of Snohomish, and City of Everett.
| At confluence with Skykomish and Snoqualmie Rivers | *39 | *41
Steamboat Slough | Approximately 2.08 miles downstream of Burlington Northern Railroad bridge | *9 | *8 | Snohomish County (Uninc. Areas), City of Marysville, and City of Everett.
| At divergence from Snohomish River | *12 | *13
Union Slough | Approximately 0.24 miles downstream of Burlington Northern Railroad bridge | *9 | *8 | Snohomish County (Uninc. Areas) and City of Everett.
| Approximately 1,270 feet downstream of divergence from Snohomish River | *12 | *12
# Depth in feet above ground
*National Geodetic Datum
ADDRESSES
Unincorporated Areas of Snohomish County:
Maps are available for inspection at the Snohomish County Planning Department, 3000 Rockefeller Avenue, Everett, Washington 98201.
Send comments to the Honorable Bob J. Drewel, Snohomish County Executive, 3000 Rockefeller Avenue, Mail Stop 47, Everett, Washington 98201.
City of Monroe:
Maps are available for inspection at the Engineering Department, City Hall, 806 West Main Street, Monroe, Washington 98272.
Send comments to the Honorable Donnetta Walser, Mayor, City of Monroe, 806 West Main Street, Monroe, Washington 98272.
City of Marysville:
Maps are available for inspection at the Public Works Department, 80 Columbia Avenue, Marysville, Washington 98270.
Send comments to the Honorable David Weiser, Mayor, City of Marysville, 1049 State Avenue, Marysville, Washington 98270.
City of Everett:
Maps are available for inspection at the Public Works Department, 3200 Cedar Street, Everett, Washington 98201.
Send comments to the Honorable Frank Anderson, Mayor, City of Everett, 2930 Wetmore Avenue, Everett, Washington 98201.
City of Snohomish:
Maps are available for inspection at the Engineering Department, 116 Union Avenue, Snohomish, Washington 98290.
Send comments to the Honorable Cameron Bailey, Mayor, City of Snohomish, 116 Union Avenue, Snohomish, Washington 98290.

(Catalog of Federal Domestic Assistance No. 83.100, “Flood Insurance”)

Dated: November 18, 2003.
Anthony S. Lowe,
Mitigation Division Director, Emergency Preparedness and Response Directorate.

[FR Doc. 03-29355 Filed 11-24-03; 8:45 am]

BILLING CODE 9110-13-P